DEPARTMENT OF ENERGY

Federal Energy Regulatory Commission

[ Project No. 2503-154]

Duke Energy Carolinas, LLC; Notice of Application Tendered for Filing With the Commission and Establishing Procedural Schedule for Licensing and Deadline for Submission of Final Amendments

Take notice that the following hydroelectric application has been filed with the Commission and is available for public inspection.

a. Type of Application: New Major License.

b. Project No.: 2503-154.

c. Date Filed: August 27, 2014.

d. Applicant: Duke Energy Carolinas, LLC.

e. Name of Project: Keowee-Toxaway Hydroelectric Project.

f. Location: The existing Keowee-Toxaway Project is located on the Toxaway, Keowee, and Little Rivers in Oconee County and Pickens County, South Carolina and Transylvania County, North Carolina. The Keowee-Toxaway Project occupies no federal lands.

g. Filed Pursuant to: Federal Power Act, 16 U.S. C. 791 (a)-825(r).

h. Applicant Contact: Jennifer Huff, Duke Energy Carolinas, LLC, 526 S. Church Street, Charlotte, NC 28202; Telephone (980) 373-4392.

i. FERC Contact: Stephen Bowler, (202) 502-6861 or stephen.bowler@ferc.gov

j. This application is not ready for environmental analysis at this time.

k. The Project Description:

The Keowee-Toxaway Project consists of two developments: The upstream, 710.1-MW Jocassee Development and the downstream, 157.5-megawatt (MW) Keowee Development owned by Duke Energy Carolinas, LLC. The Jocassee Development includes: A 385-foot-high, 1,800-foot-long main earthfill dam with top elevation at 1,125 feet above mean sea level (msl); two circular intake structures passing water to two water conveyance tunnels leading to four turbines; two saddle dikes (825 feet and 500 feet in length); a partially-open powerhouse just downstream of the dam containing four reversible pump-turbine units authorized for an installed capacity of 177.5 MW each; a 50-foot-wide, concrete, ogee-type spillway with two Taintor gates; a 230-kilovolt (kV) transmission system; and appurtenant facilities. The maximum hydraulic capacity is 36,200 cfs.

The Jocassee Development is operated as a pumped-storage project, with the pump-turbines used for generating power during peak demand periods (typically during the day), and for pumping water back through the tunnels to Lake Jocassee (typically during the night). The pumps have a capacity of 32,720 cfs. The Jocassee Development is also the lower lake for the 1,065 MW Bad Creek Hydroelectric Project No. 2740, which is also owned by Duke, but is not part of this relicensing.

The Keowee Development includes: a 165-foot-high, 3,500-foot-long earthfill dam impounding the Keowee River, and a 165-foot-high, 1,800-foot-long earthfill dam impounding the Little River; four saddle dikes (1,900 feet, 225 feet, 350 feet, and 650 feet in length); an intake dike at the Oconee Nuclear Station; a 176-foot wide, concrete, ogee-type spillway with four Taintor gates; a concrete intake structure leading to two penstocks; a concrete powerhouse at the base of Keowee dam containing two Francis-type, mixed flow turbine-generator units authorized for an installed capacity of 78.8 MW each; a 150-foot by 500-foot concrete tailrace; a 230-kV transmission system; and appurtenant facilities. The maximum hydraulic capacity is 24,920 cfs.

Duke and several stakeholders signed a relicensing agreement (settlement), which resolves all issues to relicensing the project among the signatories.

l. Locations of the Application: A copy of the application is available for review at the Commission in the Public Reference Room or may be viewed on the Commission's Web site at http://www.ferc.gov using the “eLibrary” link. Enter the docket number excluding the last three digits in the docket number field to access the document. For assistance, please contact FERC Online Support at FERCOnlineSupport@ferc.gov, (866) 208-3676 (toll free), or (202) 502-8659 (TTY).

A copy is also available for inspection and reproduction at the address in item (h) above.

m. You may also register online at http://www.ferc.gov/docs-filing/esubscription.asp to be notified via email of new filings and issuances related to this or other pending projects. For assistance, contact FERC Online Support.

n. Procedural Schedule:

The application will be processed according to the following preliminary Hydro Licensing Schedule. Revisions to the schedule may be made as appropriate.

Milestone | Target date
Notice of Acceptance/Notice of Ready for Environmental Analysis | October 26, 2014.
Filing of recommendations, preliminary terms and conditions, and fishway prescriptions | December 25, 2014.
Commission issues Draft EA | June 23, 2015.
Comments on Draft Environmental Assessment (EA) | July 23, 2015.
Modified terms and conditions | September 21, 2015.
Commission issues Final EA | December 20, 2015.

o. Final amendments to the application must be filed with the Commission no later than 30 days from the issuance date of the notice of ready for environmental analysis.

Dated: September 10, 2014.
Kimberly D. Bose,
Secretary.

[FR Doc. 2014-22102 Filed 9-16-14; 8:45 am]

BILLING CODE 6717-01-P